DEPARTMENT OF AGRICULTURE

Animal and Plant Health Inspection Service

7 CFR Part 319

[Docket No. APHIS-2007-0153]

RIN 0579-AC88

Importation of Eggplant From Israel

Correction

In proposed rule document E8-26814 beginning on page 66807 in the issue of Wednesday, November 12, 2008 make the following correction:

§319.56-48 [Corrected]

On page 66811, in the third column, in §319.56-48(e), in the last line, “7 CFR 319.56*48.” should read “7 CFR 319.56-48.”

[FR Doc. E8-26814 Filed 12-4-08; 8:45 am]

BILLING CODE 1505-01-D